DEPARTMENT OF COMMERCE

Foreign-Trade Zones Board

[Docket 48-2011]

Foreign-Trade Zone 109 — Watertown, NY; Amendment to Application; North American Tapes, LLC (Textile Athletic Tape), Watertown, NY

A request has been submitted to the Foreign-Trade Zones Board (the Board) by the Jefferson County Industrial Development Authority (JCIDA), grantee of FTZ 109, to amend its application requesting authority on behalf of North American Tapes (NAT), to manufacture athletic tape under FTZ procedures within FTZ 109. The application was docketed under docket number 48-2011 on July 15, 2011 (76 FR 43259, 7-20-2011).

The NAT facility (25 employees) is located within FTZ 109 at 22430 Fisher Road in the Jefferson County Industrial Park (Site 1). The facility is used to produce pressure-sensitive adhesive athletic tape with textile fabric backing material for the U.S. market and export.

JCIDA has now amended the application to provide updated and corrected information regarding the domestic availability and technical specifications of the textile fabric that would be used as an input to NAT's manufacturing process.

Public comment on the amended application is invited from interested parties. Submissions (original and 3 copies) shall be addressed to the Board's Executive Secretary at the following address: Office of the Executive Secretary, Room 2111, U.S. Department of Commerce, 1401 Constitution Avenue NW, Washington, DC 20230-0002. The closing period for receipt of comments is April 5, 2012. Rebuttal comments in response to material submitted during the foregoing period may be submitted during the subsequent 15-day period to April 20, 2012.

A copy of the amended application will be available for public inspection at the Office of the Foreign-Trade Zones Board's Executive Secretary at the address listed above and in the “Reading Room” section of the Board's Web site, which is accessible via www.trade.gov/ftz. For further information, contact Pierre Duy at or (202) 482-1378.

Dated: February 29, 2012.
Andrew McGilvray,
Executive Secretary.

[FR Doc. 2012-5418 Filed 3-5-12; 8:45 am]

BILLING CODE P